DEPARTMENT OF HEALTH AND HUMAN SERVICES

Health Resources and Services Administration

Agency Information Collection Activities: Submission to OMB for Review and Approval; Public Comment Request

AGENCY: Health Resources and Services Administration; HHS.

ACTION: Notice.

SUMMARY: In compliance with section 3506(c)(2)(A) of the Paperwork Reduction Act of 1995 (44 U.S.C. chapter 35), the Health Resources and Services Administration (HRSA) will submit an Information Collection Request (ICR) to the Office of Management and Budget (OMB). Comments submitted during the first public review of this ICR will be provided to OMB. OMB will accept further comments from the public during the review and approval period. To request a copy of the clearance requests submitted to OMB for review, email paperwork@hrsa.gov or call the HRSA Reports Clearance Office at (301) 443-1984.

Information Collection Request Title: Workforce Recruitment in Health Resources and Services Administration (HRSA)—Funded Health Centers (OMB No. 0915-0353)—[Extension]

This semi-annual survey is designed to collect information from HRSA-funded health centers regarding their current workforce and recent hiring efforts. The purpose of this data collection instrument is to provide data on health center workforce recruitment and identify areas for additional training or technical assistance that might be needed to support health centers in their hiring efforts. As authorized by statute, HRSA provides technical assistance to health centers to assist them in meeting the Health Center Program requirements and in providing required primary health services, the provisions of which are dependent on maintaining a high quality and effective workforce.

Ensuring that the primary care workforce is able to meet the demands of increasing patient volume is critical to the future success of health centers in serving the nation's underserved and vulnerable populations. As health centers seek to fill open positions, one growing pool of qualified candidates increasingly being recruited is returning veterans, many of whom have trained as health care providers and/or administrators during their time in the service. The information collected in this survey will help assess how health centers have filled vacancies, whether the availability of veterans to join the health center workforce is impacting their hiring efforts, and what additional efforts might improve health center recruitment.

Burden Statement: Burden in this context means the time expended by persons to generate, maintain, retain, disclose, or provide the information requested. This includes the time needed to review instructions, to develop, acquire, install, and utilize technology and systems for the purpose of collecting, validating, and verifying information; processing and maintaining information; and disclosing and providing information, to train personnel and to be able to respond to a collection of information, to search data sources, to complete and review the collection of information, and to transmit or otherwise disclose the information. The total annual burden hours estimated for this ICR are summarized in the table below.

The annual estimate of burden is as follows:

Instrument | Number of respondents | Responses per respondent | Total responses | Hours per response* | Total burden hours
Health Center Work Force Survey | 1,200 | 2 | 2,400 | 1.0 | 2,400
Total | 1,200 | 2 | 2,400 | 1.0 | 2,400
* Note: This estimate includes the time for the grantee to read the survey instructions, collect the data and information requested, and to complete the online survey.

ADDRESSES: Submit your comments to the desk officer for HRSA, either by email to OIRA_submission@omb.eop.gov or by fax to 202-395-5806. Please direct all correspondence to the “attention of the desk officer for HRSA.”

Deadline: Comments on this ICR should be received within 30 days of this notice.

Dated: November 26, 2012.
Bahar Niakan,
Director, Division of Policy and Information Coordination.

[FR Doc. 2012-29009 Filed 11-29-12; 8:45 am]

BILLING CODE 4165-15-P